NUCLEAR REGULATORY COMMISSION

[Docket No. 50-302]

Florida Power Corporation; Crystal River Unit 3; Environmental Assessment and Finding of No Significant Impact

The U.S. Nuclear Regulatory Commission (NRC) is considering issuance of an exemption from Title 10 of the Code of Federal Regulations (10 CFR) part 55, section 55.59(c)(1) for Facility Operating License No. DPR-72, issued to Florida Power Corporation (the licensee), for operation of Crystal River Unit 3 (CR-3), located in Citrus County, Florida. As required by 10 CFR 51.21, the NRC is issuing this environmental assessment and finding of no significant impact.

Environmental Assessment

Identification of the Proposed Action

The proposed action would constitute a one-time exemption to allow the current licensed operator requalification program to exceed 24 months. The requested exemption would extend the completion date for the current requalification program from December 31, 2004, to February 28, 2005, and would include an extension to February 28, 2005, for completing the required annual operating tests and comprehensive biennial written examination. The next requalification program period would begin on March 1, 2005, and continue for 24 months to February 28, 2007, with successive periods running for 24 months.

The proposed action is in accordance with the licensee's application for exemption dated March 6, 2003.

The Need for the Proposed Action

The proposed action would extend the current CR-3 requalification program from December 31, 2004, to February 28, 2005. The next requalification program period would begin on March 1, 2005, and continue for 24 months to February 28, 2007, with successive periods running for 24 months. The proposed action is needed to allow for minimal interruption of the licensed personnel based on scheduling difficulties associated with an end-of-the-year requalification program cycle. Specifically, the licensee has stated that moving operator annual and biennial exams to a January to February timeframe would support the following benefits for the licensee: (1) Minimize the fall refueling outage impact on exam development; (2) minimize the potential impact from any fall refueling outage extensions; (3) minimize the scheduling and resource impact from holidays; (4) minimize the potential scheduling and resource impact of any exam remediation or retesting requirements during the holidays; and (5) minimize the potential impact from future bargaining unit negotiations that occur periodically in the fourth calendar quarter. The licensee deems it prudent to allow the licensed personnel operating the plant to remain fully available to stand watch on operating crews and not be distracted by completing the licensed operator requalification program by December 31, 2004.

Environmental Impacts of the Proposed Action

The NRC has completed its evaluation of the proposed action and concludes that there are no significant environmental impacts associated with the extension of the completion date for the operator requalification program from December 31, 2004, to February 28, 2005.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for CR-3.

Agencies and Persons Consulted

On May 1, 2003, the staff consulted with the Florida State official, William Passetti, of the Florida Department of Health Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 6, 2003. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

For the Nuclear Regulatory Commission.
Dated at Rockville, Maryland, this 5th day of May, 2003.
Allen G. Howe,
Chief, Section 2, Project Directorate II, Division of Licensing Project Management, Office of Nuclear Reactor Regulation.

[FR Doc. 03-11526 Filed 5-8-03; 8:45 am]

BILLING CODE 7590-01-P